DEPARTMENT OF THE INTERIOR

National Park Service

[N6702; NPS-WASO-NAGPRA-NPS0041448; PPWOCRADN0-PCU00RP14.R50000]

Notice of Intended Repatriation: California State University San Bernardino, San Bernardino, CA

AGENCY: National Park Service, Interior.

ACTION: Notice.

SUMMARY: In accordance with the Native American Graves Protection and Repatriation Act (NAGPRA), the California State University San Bernardino intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Michael Chavez, CSUSB, 5500 University Parkway, CA 92407, email michael.chavez@csusb.edu.

SUPPLEMENTARY INFORMATION: This notice is published as part of the National Park Service's administrative responsibilities under NAGPRA. The determinations in this notice are the sole responsibility of the California State University San Bernardino, and additional information on the determinations in this notice, including the results of consultation, can be found in the summary or related records. The National Park Service is not responsible for the determinations in this notice.

Abstract of Information Available

A total of 12 cultural items have been requested for repatriation. A total of 11 objects of cultural patrimony are nine arrow shafts, one bow stave and one coyote fur quiver. They have a limited provenience history but according to the appraisal form these objects were discovered in the Palm Springs area and later donated to CSUSB in 2006 with the note “Morongo” included by the donor. There is no documentation of testing or treatments.

The 12th object of cultural patrimony is a single decorated pottery sherd that was discovered and collected from private land within the Joshua Tree National Park Area in the 1930's. At this time there is no additional provenience information for this sherd and given the lack of provenience information the Joshua Tree National Park team released control to CSUSB for the purposes of repatriation. This sherd came to CSUSB at an undisclosed time. There is no documentation of testing or treatment.

Determinations

The California State University San Bernardino has determined that:

• The 12 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Morongo Band of Mission Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the California State University San Bernardino must determine the most appropriate requestor prior to repatriation. Requests for joint repatriation of the cultural items are considered a single request and not competing requests. The California State University San Bernardino is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23152 Filed 12-17-25; 8:45 am]

BILLING CODE 4312-52-P